RAILROAD RETIREMENT BOARD

Guidelines for Ensuring and Maximizing the Quality, Objectivity, Utility and Integrity of Information Disseminated by Federal Agencies

AGENCY: Railroad Retirement Board (RRB).

ACTION: Notice; comments requested.

SUMMARY: Section 515 of the Treasury and General Government Appropriations Act for Fiscal Year 2001 (Pub. L. 106-554) directs the Office of Management and Budget (OMB) to issue government-wide guidelines for Federal agencies to ensure and maximize the quality, objectivity, utility and integrity of information disseminated by federal agencies. In response, OMB issued government-wide guidelines on February 22, 2002 (67 FR 8452), (subsequently revised on March 4, 2002 (67 FR 9797)), that require Federal agencies that are subject to the Paperwork Reduction Act (44 U.S.C. chapter 35) to develop and publish their own information quality guidelines along with administrative mechanisms to allow persons to request correction of covered information.

This notice serves to announce the availability of RRB section 515 draft information quality guidelines and correction procedures on the agency's web site: www.rrb.gov/bis/section515/comments.html. RRB is requesting comments on section 515 draft guidelines for ensuring and maximizing the quality, objectivity, utility and integrity of disseminated information and on the proposed mechanisms for seeking correction of covered information. The RRB will consider all comments received in response to this notice and will develop final guidelines and mechanisms for seeking correction for submission to OMB by July 1, 2002.

Notice of RRB's final guidelines and correction procedures will be published in the Federal Register and will be available on the RRB web site no later than October 1, 2002.

DATES: To be considered, comments must be received by June 15, 2002.

ADDRESSES: Comments can be sent to Mr. Ronald J. Hodapp, Bureau of Information Services, by FAX at (312) 751-7154, by e-mail at HODAPPRJ@RRB.GOV, or by mail. Comments sent by mail should be addressed to: Mr. Ronald J. Hodapp, Bureau of Information Services, 4th floor, Railroad Retirement Board, 844 Rush St., Chicago, IL 60611-2092.

By Authority of the Board.
Beatrice Ezerski,
Secretary of the Board.

[FR Doc. 02-11110 Filed 5-1-02; 11:35 am]

BILLING CODE 7905-01-M